DEPARTMENT OF COMMERCE

International Trade Administration

[A-570-912]

Certain New Pneumatic Off-the-Road Tires From the People's Republic of China: Notice of Partial Rescission of the Antidumping Duty Administrative Review; 2015-2016

AGENCY: Enforcement and Compliance, International Trade Administration, Department of Commerce.

SUMMARY: On November 9, 2016, the Department of Commerce (“Department”) initiated an administrative review of the antidumping duty order on certain new pneumatic off-the-road tires (“OTR Tires”) from the People's Republic of China (“PRC”) for ten companies. Based on timely withdrawal of requests for review, we are now rescinding this administrative review with respect to three of these companies: Weifang Jintongda Tyre Co., Ltd. (“Jintongda”); Trelleborg Wheel Systems (Xingtai) Co., Ltd. (“TWS China”); and Zhongce Rubber Group Company Limited (“Zhongce”).

DATES: Effective April 4, 2017.

FOR FURTHER INFORMATION CONTACT: Alex Rosen, AD/CVD Operations, Office III, Enforcement and Compliance, International Trade Administration, U.S. Department of Commerce, 1401 Constitution Avenue NW., Washington, DC 20230; telephone: (202) 482-7814.

SUPPLEMENTARY INFORMATION:

Background

On September 8, 2016, the Department published a notice of opportunity to request an administrative review of the antidumping duty order on OTR Tires from the PRC.¹ In September 2016, the Department received multiple timely requests to conduct an administrative review of the antidumping duty order on OTR Tires from the PRC. Based on these requests, on November 9, 2016, in accordance with section 751(a) of the Tariff Act of 1930, as amended (the “Act”), the Department published in the Federal Register a notice of initiation of an administrative review covering the period September 1, 2015, through August 31, 2016, with respect to ten companies: Cheng Shin Rubber Industry Ltd.; Guizhou Tyre Co., Ltd.; Guizhou Tyre Import and Export Co., Ltd.; Qingdao Milestone Tyres Co. Ltd.; Qingdao Qihang Tyre Co. Ltd.; Shandong Zhentai Group Co., Ltd.; Weihai Zhongwei Rubber Co., Ltd.; TWS China; Jintongda; and Zhongce.² On November 24, 2016, December 13, 2016, and February 7, 2017, Jingtongda,³ Zhongce,⁴ and TWS China,⁵ timely withdrew their respective requests for an administrative review.

¹ See Antidumping or Countervailing Duty Order, Finding, or Suspended Investigation; Opportunity to Request Administrative Review, 81 FR 62096 (September 8, 2016).

² See Initiation of Antidumping and Countervailing Duty Administrative Reviews, 81 FR 78778 (November 9, 2016).

³ See Letter from Jingtongda, “Certain New Pneumatic Off-the-Road Tires From the People's Republic of China: Withdrawal of Request for Administrative Review,” dated November 24, 2016.

⁴ See Letter from Zhongce, “New Pneumatic Off-the-Road Tires From the People's Republic of China: Withdrawal of Request for Administrative Review—2015-16 Review Period,” dated December 13, 2016.

⁵ See Letter from TWS China, “Antidumping Duty Administrative Review of New Pneumatic Off-The-Road Tires from the People's Republic of China: Withdrawal of Request for Administrative Review of Trelleborg Wheel Systems (Xingtai) Co., Ltd.,” dated February 7, 2017.

Partial Rescission

Pursuant to 19 CFR 351.213(d)(1), the Secretary will rescind an administrative review, in whole or in part, if a party who requested the review withdraws the request within 90 days of the date of publication of the notice of initiation of the requested review. Jingtongda, Zhongce, and TWS China timely withdrew their requests for an administrative review; no other party requested a review of these companies. Accordingly, we are rescinding this review, in part, with respect to these companies, pursuant to 19 CFR 351.213(d)(1).

Assessment

The Department will instruct U.S. Customs and Border Protection (“CBP”) to assess antidumping duties on all appropriate entries. For Jingtongda, Zhongce, and TWS China, the companies for which this review is rescinded, antidumping duties shall be assessed at rates equal to the cash deposit of estimated antidumping duties required at the time of entry, or withdrawal from warehouse, for consumption, in accordance with 19 CFR 351.212(c)(1)(i). The Department intends to issue appropriate assessment instructions to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in the Department's presumption that reimbursement of antidumping and/or countervailing duties occurred and the subsequent assessment of doubled antidumping and/or countervailing duties.

Notification Regarding Administrative Protective Order

This notice serves as a final reminder to parties subject to an administrative protective order (“APO”) of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Date: March 29, 2017.
Gary Taverman,
Associate Deputy Assistant Secretary for Antidumping and Countervailing Duty Operations.

[FR Doc. 2017-06619 Filed 4-3-17; 8:45 am]

BILLING CODE 3510-DS-P